DEPARTMENT OF TRANSPORTATION

Federal Aviation Administration

Metallic Materials Properties Development and Standardization (MMPDS) Handbook

AGENCY: Federal Aviation Administration (DOT).

ACTION: Notice of availability and request for public comment; correction.

SUMMARY: This notice corrects the “How To Obtain Copies” Web address published April 11, 2005 (70 FR 18452) that announced the availability of and requested comments for a proposed plan to manage the Metallic Materials Properties Development and Standardization (MMPDS) Handbook which has replaced the now cancelled “Department of Defense Handbook: Metallic Materials and Elements for Aerospace Vehicle Structures,” (MIL-HDBK-5) and our intention to make the MMPDS Handbook the primary source of metallic materials and fastener allowable properties demonstrated to comply with FAA airworthiness requirements.

DATES: The comment period is extended to July 5, 2005.

ADDRESSES: Send all comments on the proposals to: John J. Petrakis, National Aging Aircraft Program Manager, Technical Program & Continued Airworthiness Branch, AIR-120, 800 Independence Ave., SW., Washington, DC 20591; telephone (202) 267-9274; fax (202) 267-5340. You may deliver comments to: Federal Aviation Administration, Room 815, 800 Independence Avenue, SW., Washington, DC 20591, or electronically submit comments to the following Internet address e-mail 9-AWA-AVR-AIR120-TechPrograms@faa.gov. Include in the subject line of your message the title of the document on which you are commenting.

FOR FURTHER INFORMATION CONTACT: Mr. John J. Petrakis, AIR-120, Room 835, Federal Aviation Administration, Aircraft Certification Service, Aircraft Engineering Division, 800 Independence Avenue, SW., Washington, DC 20591, Telephone (202) 267-9274, FAX: (202) 267-5340.

SUPPLEMENTARY INFORMATION:

Comments Invited

You are invited to comment on the proposed plan to manage the Handbook identified in this notice by submitting written data, views, or arguments to the address listed above. You may examine all comments received on the proposed plan to manage the Handbook before and after the comment closing date at the Federal Aviation Administration, Room 835, 800 Independence Avenue, SW., Washington, DC 20591, weekdays except Federal holidays, between 8:30 a.m. and 4:30 p.m. The Director of the Aircraft Certification Service will consider all communications received on or before the closing date.

Background

Though now cancelled, “Metallic Materials and Elements for Aerospace Vehicle Structures” (MIL-HDBK-5) continues to be used as a primary source of statistically based design allowables for metallic materials and fastened joints used in the U.S. military and commercial aerospace design. As such, the handbook was kept current for almost 50 years by joint government and industry effort.

In 1997, the Air Force began to shift from military to commercial specifications which forced the aviation industry to find an alternative approach to sustain MIL-HDBK-5. Because MIL-HDBK-5 remains critical to commercial aircraft certification and the maintenance and continued airworthiness of the commercial fleet, the FAA has assumed responsibility for the management of this essential reference document.

In support of aircraft certification, the FAA intends to make the MMPDS Handbook the primary source of metallic materials and fastener allowable properties demonstrated to comply with FAA airworthiness requirements.

In addition, the FAA is proposing a plan to sustain the Handbook and secure funding for maintaining MMPDS from multiple sources, including other government agencies, industry stakeholders, the private sector, and from sales of the handbook and related products.

How To Obtain Copies

You may get a copy of the notice of availability: http://www.faa.gov/certification/aircraft/DraftDoc/CommNotices.htm.

You may also request a copy from Mr. John J. Petrakis. See the section entitled FOR FURTHER INFORMATION CONTACT for the complete address.

Issued in Washington, DC, on April 27, 2005.
David W. Hempe,
Manager, Aircraft Engineering Division, Aircraft Certification Service.

[FR Doc. 05-8934 Filed 5-4-05; 8:45 am]

BILLING CODE 4910-13-M